DEPARTMENT OF AGRICULTURE

Animal and Plant Health Inspection Service

[Docket No. 03-089-1]

Notice of Request for Extension of Approval of an Information Collection

AGENCY: Animal and Plant Health Inspection Service, USDA.

ACTION: Extension of approval of an information collection; comment request.

SUMMARY: In accordance with the Paperwork Reduction Act of 1995, this notice announces the Animal and Plant Health Inspection Service's intention to request an extension of approval of an information collection in support of the Cooperative Agricultural Pest Survey.

DATES: We will consider all comments that we receive on or before December 22, 2003.

ADDRESSES: You may submit comments by postal mail/commercial delivery or by e-mail. If you use postal mail/commercial delivery, please send four copies of your comment (an original and three copies) to: Docket No. 03-089-1, Regulatory Analysis and Development, PPD, APHIS, Station 3C71, 4700 River Road, Unit 118, Riverdale, MD 20737-1238. Please state that your comment refers to Docket No. 03-089-1. If you use e-mail, address your comment to regulations@aphis.usda.gov. Your comment must be contained in the body of your message; do not send attached files. Please include your name and address in your message and “Docket No. 03-089-1” on the subject line.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information regarding the Cooperative Agricultural Pest Survey, contact Ms. Coanne O'Hern, National Survey Coordinator, Pest Detection and Management Programs, PPQ, APHIS, 4700 River Road, Unit 137, Riverdale, MD 20737-1236; (301) 734-4387. For copies of more detailed information on the information collection, contact Mrs. Celeste Sickles, APHIS’ Information Collection Coordinator, at (301) 734-7477.

SUPPLEMENTARY INFORMATION: Title: Cooperative Agricultural Pest Survey.

OMB Number: 0579-0010.

Type of Request: Extension of approval of an information collection.

Abstract: Under the Plant Protection Act (7 U.S.C. 7701-7772), the Secretary of Agriculture is responsible for preventing the introduction and interstate spread of plant pests and noxious weeds that are new to or not widely distributed within the United States.

To this end, the Animal and Plant Health Inspection Service, Plant Protection and Quarantine (PPQ) program, has joined forces with the States and other agencies to create a program called the Cooperative Agricultural Pest Survey (CAPS). The CAPS program collects and manages data on plant pests, weeds, and biological control agents, which may be used to control plant pests or noxious weeds.

This program allows the States and PPQ to conduct surveys to detect and measure the presence of exotic plant pests and weeds and to enter survey data into a national computer-based system known as the National Agricultural Plant Information System (NAPIS). This, in turn, allows APHIS to obtain a more comprehensive picture of pest conditions in the United States as well as detect, in collaboration with the National Plant Diagnostic Network and the U.S. Department of Agriculture's Cooperative State Research, Education, and Extension Service (CSREES), population trends that could indicate an agricultural bioterrorism act.

The information generated by this program is used by States to predict potential pest situations in the United States and by Federal interests (e.g., PPQ and CSREES) to promptly detect and respond to the occurrence of new exotic pests and to provide documentation on plant pests to facilitate and record the location of those pest incursions that could directly hinder the export of U.S. farm commodities. The system also provides data management support for PPQ pest programs such as imported fire and gypsy moth.

The CAPS program entails the use of several information collection activities, including a cooperative agreement and a Specimens for Determination Form (PPQ Form 391).

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.1091824 hours per response.

Respondents: State cooperators participating in the Cooperative Agricultural Pest Survey.

Estimated annual number of respondents : 103.

Estimated annual number of responses per respondent: 352.932.

Estimated annual number of responses: 36,352.

Estimated total annual burden on respondents: 3,969 hours. (Due to averaging, the total annual burden hours may not equal the product of the annual number of responses multiplied by the reporting burden per response.)

All responses to this notice will be summarized and included in the request for OMB approval. All comments will also become a matter of public record.

Done in Washington, DC, this 17th day of October, 2003.
Kevin Shea,
Acting Administrator, Animal and Plant Health Inspection Service.

[FR Doc. 03-26786 Filed 10-22-03; 8:45 am]

BILLING CODE 3410-34-P